DEPARTMENT OF LABOR

Employment and Training Administration

Comment Request for Information Collection for Labor Standards for the Registration of Apprenticeship Programs, Extension With Minor Definition Addition

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood, and the impact of collection requirements on respondents can be properly assessed.

Currently, ETA is soliciting comments concerning the collection of data in accordance with Title 20 CFR part 29, the Labor Standards for Apprenticeship Programs Registration, currently expiring April 30, 2015.

DATES: Submit written comments to the office listed in the addresses section below on or before January 26, 2015.

ADDRESSES: Send written comments to Michael Qualter, Chief, Division of Program Administration and Management Services, Office of Apprenticeship, Room N-5311, Employment and Training Administration, U.S. Department of Labor, 200 Constitution Avenue NW., Washington, DC 20210. Telephone number: 202- 693-3812 (this is not a toll-free number). Individuals with hearing or speech impairments may access the telephone number above via TTY by calling the toll-free Federal Information Relay Service at 1-877-889-5627 (TTY/TDD). Fax: 202-693-3799. Email: qualter.michael@dol.gov. To obtain a copy of the proposed information collection request (ICR), please contact the person listed above.

SUPPLEMENTARY INFORMATION:

I. Background

The National Apprenticeship Act of 1937, Section 50 (29 U.S.C. 50), authorizes and directs the Secretary of Labor “to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education in accordance with Section 17 of Title 20.” Section 50a of the Act authorizes the Secretary of Labor to “publish information relating to existing and proposed labor standards of apprenticeship,” and to “appoint national advisory committees . . .” (29 U.S.C. 50a). The form approved by the Office of Management and Budget used to collect labor standards information is ETA 617, Program Registration, Section I, and Apprentice Registration, Section II. Both sections of ETA 671 are available electronically to facilitate the registration of programs and apprentices. ETA is requesting a regular three-year extension with a minor change to the current information collection. The proposed change to ETA 671 is under Program Definitions and/or Instructions, Part A, 7b. In the instructions, the definition of Direct Entry has been modified to include pre-apprenticeship training programs that meet the requirements outlined in Training and Employment Notice 13-12: “Defining a Quality Pre-Apprenticeship Program.”

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension with minor addition to definition section.

Title: Labor Standards for the Registration of Apprenticeship Programs.

OMB Number: 1205-0223.

Affected Public: individuals/households, state/local/tribal governments, Federal government, private sector (businesses or other for-profits, and, not-for-profit institutions)

Estimated Total Annual Respondents: 141,779.

Estimated Total Annual Responses: 141,779.

Estimated Total Annual Burden Hours: 14,775.

Total Estimated Annual Other Costs Burden: 0.

We will summarize and include in the request for OMB approval of the ICR, the comments received in response to this comment request; they will also become a matter of public record.

Portia Wu,
Assistant Secretary for Employment and Training, Labor.

[FR Doc. 2014-27971 Filed 11-25-14; 8:45 am]

BILLING CODE 4510-FR-P